DEPARTMENT OF TRANSPORTATION

Federal Aviation Administration

Notice of Intent To Rule on Application 04-01-C-00-CLT To Impose and Use the Revenue From a Passenger Facility Charge (PFC) at Charlotte/Douglas International Airport, Charlotte, NC

AGENCY: Federal Aviation Administration (FAA), DOT.

ACTION: Notice of intent to rule on application.

SUMMARY: The FAA proposes to rule and invites public comment on the application to impose and use the revenue from a PFC at Charlotte/Douglas International Airport under the provisions of the 49 U.S.C. 40117 and part 158 of the Federal Aviation Regulations (14 CFR part 158).

DATES: Comments must be received on or before July 14, 2004.

ADDRESSES: Comments on this application may be mailed or delivered in triplicate to the FAA at the following address: Atlanta Airports District Office, 1701 Columbia Avenue, Suite 2-260, College Park, Georgia.

In addition, one copy of any comments submitted to the FAA must be mailed or delivered to T.J. Orr, Aviation Director of the Charlotte/Douglas International Airport at the following address: 5501 Josh Birmingham Parkway, Charlotte, NC 28219.

Air carriers and foreign air carriers may submit copies of written comments previously provided to the Charlotte/Douglas International Airport under section 158.23 of part 158.

FOR FURTHER INFORMATION CONTACT: Tracie D. Kleine, Program Manager, Atlanta Airports District Office, 1701 Columbia Avenue, Suite 2-260, College Park, Georgia 30337, (404) 305-7148. The application may be reviewed in person at this same location.

SUPPLEMENTARY INFORMATION: The FAA proposes to rule and invites public comment on the application to impose and use the revenue from a PFC at Charlotte/Douglas International Airport under the provisions of the 49 U.S.C. 40117 and part 158 of the Federal Aviation Regulations (14 CFR part 158).

On June 3, 2004, the FAA determined that the application to impose and use the revenue from a PFC submitted by Charlotte/Douglas International Airport was substantially complete within the requirements of § 158.25 of part 158. The FAA will approve or disapprove the application, in whole or in part, no later than September 4, 2004.

The following is a brief overview of the application.

Proposed charge effective date: November 1, 2004.

Proposed charge expiration date: December 1, 2018.

Level of the proposed PFC: $3.00.

Total estimated PFC revenue: $514,701,943.

Brief description of proposed project(s):

Third Parallel Runway

Overlay Runway 18L/36R

Runway 18L Safety Area Improvements

Rehabilitate Runway 18R/36L

Runway 23 Safety Area Improvements

Reconstruct Taxiway C

Ramp E Expansion

Construct Taxiway AA

Storm Drain Rehabilitation

East Airfield Lighting Vault

Additional ARFF Facility

Taxiway M Rehabilitation

Aircraft Deicing Facility

Noise Compatibility Program Update

Federal Inspection Station

Terminal Building Renovations

Terminal Expansion—West

Concourse D Expansion, Phase I

Concourse E Improvements

Access Road

1997 Part 150 Study

1997 Master Plan Land Acquisition

Part 150 Land Acquisition and Mitigation

Concourse D Expansion, Phase II

Concourse E Construction

Concourse E Apron Construction

Terminal Building Expansion

South Terminal Expansion

PFC Application Development Cost

PFC Application Administration Cost

Class or classes of air carriers which the public agency has requested not be required to collect PFCs: Air Taxi/Commercial Operators (ATCO).

Any person may inspect the application in person at the FAA office listed above under FOR FURTHER INFORMATION CONTACT.

In addition, any person may, upon request, inspect the application, notice and other documents germane to the application in person at the Charlotte/Douglas International Airport.

Issued in College Park, Georgia, on June 3, 2004.
Scott L. Seritt,
Manager, Atlanta Airports District Office, Southern Region.

[FR Doc. 04-13309 Filed 6-10-04; 8:45 am]

BILLING CODE 4910-13-M